CIVIL RIGHTS COMMISSION

Sunshine Act Meeting Notice

AGENCY: United States Commission on Civil Rights.

ACTION: Notice of Commission public briefing.

DATES: Friday, February 2, 2018, 9:00 a.m. EST.

ADDRESSES: Marriott Crabtree Raleigh Durham, 4500 Marriott Drive, Raleigh, NC 27612.

FOR FURTHER INFORMATION CONTACT: Brian Walch, (202) 376-8371; TTY: (202) 376-8116; publicaffairs@usccr.gov.

SUPPLEMENTARY INFORMATION: The Commission will hold a public briefing as part of its ongoing assessment of federal enforcement of the Voting Rights Act (VRA). This meeting is open to the public. Testimony from this briefing will form an integral basis for our 2018 report to Congress, the President, and the American people regarding the state of voting rights across the nation.

Our Commissioners will receive testimony from current and former state and federal government officials, legal experts, academics, and civil society actors. Panelists will discuss voter access, including federal voting rights enforcement efforts after the 2006 reauthorization of the temporary provisions of the VRA, and the impact of the Shelby County v. Holder decision on the Department of Justice's enforcement strategies and priorities.

We will also offer an open comment period in which members of the public will be able to address the Commission. Individuals who wish to participate should sign-up at the briefing. Each individual will have up to three (3) minutes to speak, with spots allotted on a first-come, first-serve basis; forty (40) spots will be available during the two-hour period. The first half of the available slots will be available for sign-up during the morning (10:40 a.m.) and lunch breaks (12:20 p.m.). The second half of the available slots will be available for sign-up during the afternoon break (2:50 p.m.), until all available slots are filled.

In addition, the Commission welcomes the submission of additional material for consideration as we prepare our report. Please submit such information to VotingRights@usccr.gov no later than Monday March 19, 2018.

The event will live-stream at https://www.youtube.com/user/USCCR/videos. If attending in person, we ask that you RSVP to publicaffairs@usccr.gov. Persons with disabilities who need accommodation should contact Pamela Dunston at 202-376-8105 or at access@usccr.gov at least seven (7) business days before the date of the meeting.

I. Introductory Remarks: Chair Catherine E. Lhamon: 9:00 a.m.-9:10 a.m.

II. Panel One: Scope and Efficacy of Department of Justice (DOJ) Voting Rights Act (VRA) Enforcement: 9:10 a.m.-10:40 a.m.

• Peyton McCrary, served as a historian in the Civil Rights Division of DOJ for over twenty-seven years, until his retirement in late 2016. Dr. McCrary does research on the factual issues in voting rights litigation and assist DOJ attorneys in identifying expert witnesses to retain for cases that the Department pursues. He also co-authored a book chapter that examines how the DOJ has administered Section 5 from 1965 to present.

• Vanita Gupta, President and CEO, The Leadership Conference on Civil and Human Rights. Ms. Gupta served in DOJ from October 2014-January 2017 as Principal Deputy Assistant Attorney General and head of the Civil Rights Division.

• J. Gerald Hebert, Senior Director, Voting Rights & Redistricting at Campaign Legal Center. Mr. Hebert served in several capacities at DOJ from 1973 to 1994, and served as chief counsel in over one hundred voting rights lawsuits.

• Justin Levitt, Professor of Law at Loyola Los Angeles Law School. Professor Levitt served as the Deputy Assistant Attorney General at DOJ from 2015-2017.

III. Break: 10:40 a.m.-10:50 a.m.

IV. Panel Two: Case Studies: A Litigator's Perspective of Laws Affecting Voter Access Since Shelby: 10:50 a.m.-12:20 p.m.

• Ezra Rosenberg, Co-Director of the Voting Rights Project at the Lawyers' Committee for Civil Rights under Law (LCCR).

• Nina Perales, Vice President of Litigation at the Mexican American Legal Defense and Educational Fund (MALDEF).

• Dale Ho, Director of Voting Rights Project at the American Civil Liberties Union (ACLU).

• E. Mark Braden, Counsel at Baker Hostetler.

• Dan Morenoff, Executive Director of the Equal Voting Rights Institute.

• Natalie Landreth, Senior Staff Attorney at the Native American Rights Fund.

V. Break: 12:20 p.m.-1:20 p.m.

VI. Panel Three: Voter Access: 1:20 p.m.-2:50 p.m.

• Michelle Bishop, Disability Advocacy Specialist for Voting Rights at the National Disability Rights Network.

• Michael J. Pitts, Professor of Law at Indiana University.

• Cleta Mitchell, Partner at Foley & Larder LLP.

• John Fund, Columnist for the National Review.

• Anita Earls, Former Executive Director at the Southern Coalition for Social Justice.

• John Merrill, Secretary of State of Alabama.

VII. Break: 2:50 p.m.-3:00 p.m.

VIII. Panel Four: Recommendations for Ensuring Access to the Ballot Post-Shelby: 3:00 p.m.-4:30 p.m.

• John J Park Jr., Counsel at Strickland, Brockington, Lewis LLP.

• Judd Choate, President of the National Association of State Election Directors and Elections Director for the State of Colorado.

• Sherrilyn Ifill, President and Director-Counsel of the NAACP Legal Defense and Educational Fund.

• Lorraine Minnite, Professor of Political Science at Rutgers University.

• Jerry Vattamala, Director of the Democracy Program at Asian American Legal Defense and Educational Fund (AALDEF).

IX. Break: 4:30 p.m.-6:00 p.m.

X. Open Public Comment Period: 6:00 p.m.-8:00 p.m.

• Individuals who wish to participate in the open public comment period should sign-up at the briefing. Each individual will have up to three (3) minutes to speak, with spots allotted on a first-come, first-serve basis; forty (40) spots will be available during the two-hour period. The first half of the available slots will be available for sign-up during the morning (10:40 a.m.) and lunch breaks (12:20 p.m.) of the briefing. The second half of the available slots will be available for sign-up during the afternoon break (2:50 p.m.) until all available slots are filled.

XI. Adjourn Briefing: 8:00 p.m.

Dated: January 19, 2018.
Brian Walch,
Director, Communications and Public Engagement.

[FR Doc. 2018-01237 Filed 1-19-18; 11:15 am]

BILLING CODE 6335-01-P